DEPARTMENT OF ENERGY

Proposed Emergency Agency Information Collection

AGENCY: U.S. Department of Energy.

ACTION: Notice and request for comments.

SUMMARY: The Department of Energy (DOE), pursuant to the Paperwork Reduction Act of 1995, has submitted an emergency information collection request package with the Office of Management and Budget (OMB) concerning the retrospective Weatherization Assistance Program Evaluation for Program Years 2007 and 2008. Comments submitted in response to this notice will be summarized and/or included in the request for OMB approval of this information collection; they also will become a matter of public record. Information about the operation of the program, energy used before and after weatherization, energy used by control group low-income homes, the effectiveness of specific energy efficiency measures, customer satisfaction with the program, and non-energy benefits is needed for a comprehensive and rigorous evaluation of the program.

DATES: Comments regarding this proposed information collection must be received on or before March 31, 2010. If you anticipate difficulty in submitting comments within that period, contact the person listed below as soon as possible.

ADDRESSES: Written comments may be sent to:

DOE Desk Officer, Office of Information and Regulatory Affairs, Office of Management and Budget, New Executive Office Building, Room 10102, 735 17th Street, NW., Washington, DC 20503; and

Bruce Tonn, Environment Sciences Division, Oak Ridge National Laboratory, One Bethel Valley Road, P.O. Box 2008, MS-6038, Oak Ridge, TN 37381-6038, Fax#: (865) 576-8646, tonnbe@ornl.gov.

FOR FURTHER INFORMATION CONTACT: Requests for additional information or copies of the information collection instrument and instructions should be directed to:

Bruce Tonn, Environment Sciences Division, Oak Ridge National Laboratory, One Bethel Valley Road, P.O. Box 2008, MS-6038, Oak Ridge, TN 37381-6038, Fax#: (865) 576-8646, tonnbe@ornl.gov.

The plan for this evaluation can be found at http://weatherization.ornl.gov. The surveys and data forms that comprise this emergency information request can also be found at http://weatherization.ornl.gov.

SUPPLEMENTARY INFORMATION: This package contains: (1) OMB No.: New; (2) Package Title: The Weatherization Assistance Program Evaluation; (3) Type of Review: Emergency; (4) Purpose: This collection of information is necessary for a complete evaluation of the program that weatherized approximately 100,000 low-income homes in Program Years 2007 and 2008; (5) Information will be collected from fifty states and Washington DC, nine hundred local weatherization agencies and approximately one thousand utilities; (6) The estimated burden is 69,136 hours; (7) There are no reporting or recordkeeping burdens associated with this request.

Statutory Authority: Section 6861 of title 42 of the United States Code and 10 CFR 440.25 authorize the collection of this information.

Issued in Washington, DC, on March 10, 2010.
Cathy Zoi,
Assistant Secretary, Energy Efficiency and Renewable Energy.

[FR Doc. 2010-5800 Filed 3-16-10; 8:45 am]

BILLING CODE 6450-01-P